DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Hung-Shu Chang, PhD, Washington State University: Based on the report of an investigation conducted by the Washington State University (WSU) and additional analysis by ORI in its oversight review, the U.S. Public Health Service (PHS) found that Hung-Shu Chang, PhD, former postdoctoral fellow, WSU, engaged in research misconduct in research supported by National Institute of Environmental Health Sciences (NIEHS), National Institutes of Health (NIH), grant R01 ES012974.

PHS found that the Respondent engaged in scientific (42 CFR 50.102) and research misconduct by fabricating and falsifying data in Figure 3 of a paper published in Endocrinology.¹ Specifically, PHS found that:

¹ Chang, H.S., Anway, M.D., Rekow, S.S., & Skinner, M.K. “Transgenerational epigenetic imprinting of the male germline by endocrine disruption exposure during gonadal sex determination.” Endocrinology 147(12):5524-5541; hereafter referred to as the “Endocrinology paper.”

• Respondent, by not conducting any of the claimed bisulfite sequencing, fabricated the methylation status of CpG sites in eight candidate genes identified in both Figures 3 and 4 as No. 11, No. 12, No. 13, No. 14, 15, No. 22, No. 26, No. 31, and No. 19, to support the hypothesis that the environmental compound, vinclozolin, induces a permanent alteration in the epigenetic reprogramming of the germline that promotes transgenerational disease states.

• Respondent, by conducting only a small fraction of the claimed bisulfite sequencing, and falsifying the results obtained, falsified the methylation status of CpG sites in eight additional candidate genes, identified in Figures 3 and 4 as No. 2, 3, 24, No. 5, 6, 9, No. 8, No. 16, No. 17, 18, No. 27, 28, No. 29, and No. 33.

Dr. Chang has entered into a Voluntary Settlement Agreement in which he has voluntarily agreed, for a period of three (3) years, beginning on July 21, 2010:

(1) To exclude himself from serving in any advisory capacity to PHS, including but not limited to service on any PHS advisory committee, board, and/or peer review committee, or as a consultant;

(2) that any institution that submits an application for PHS support for a research project on which the Respondent's participation is proposed or that uses him in any capacity on PHS-support research, or that submits a report of PHS-funded research in which the Respondent is involved, must concurrently submit a plan for supervision of the Respondent's duties to the funding agency for approval. The supervisory plan must be designed to ensure the scientific integrity of the Respondent's research contribution while applying for or conducting PHS-supported research. Respondent agrees to ensure that a copy of the supervisory plan is submitted to ORI by the institution for ORI approval. Respondent agrees not to participate in any PHS-supported research until such a supervisory plan is submitted to ORI.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-21579 Filed 8-30-10; 8:45 am]

BILLING CODE 4150-31-P